DEPARTMENT OF AGRICULTURE

Agricultural Marketing Service

[Docket No. PY-02-005]

Notice of Request for New Information Collection

AGENCY: Agricultural Marketing Service, USDA.

ACTION: Notice and request for comments.

SUMMARY: In accordance with the Paperwork Reduction Act of 1995 (44 U.S.C. Chapter 35), this notice announces the Agricultural Marketing Service's (AMS) intent to request an approval of information collection for the AMS Research and Promotion Customer Survey.

DATES: Comments received by September 16, 2002 will be considered.

ADDITIONAL INFORMATION OR COMMENTS: Contact Angela C. Snyder, Office of the Deputy Administrator, Poultry Programs, Agricultural Marketing Service, U.S. Department of Agriculture, 1400 Independence Avenue, SW., STOP 0256, Room 3932-South, Washington, DC 20250; 202-720-4476, 202-720-5631 (fax).

SUPPLEMENTARY INFORMATION: Title: AMS Research and Promotion Customer Survey.

OMB Number: 0581-New.

Expiration Date of Approval: 3 years from date of OMB approval.

Type of Request: New Information Collection.

Abstract: The Agricultural Marketing Service (AMS) has oversight responsibility of 14 national commodity research and promotion boards. These boards are responsible for carrying out coordinated programs of research, producer and consumer education, and promotion to improve, maintain, and develop markets for Beef, Blueberries, Cotton, Dairy, Fluid Milk, Eggs, Honey, Popcorn, Pork, Soybeans, Mushrooms, Peanuts, Potatoes, and Watermelon. The programs are carried out under the authority of either a generic statute research and promotion statute or free-standing research and promotion statutes. The statutes are as follows: The Commodity Promotion, Research, and Information Act of 1996, 7 U.S.C. 7411-7425; The Beef Promotion and Research Act of 1985, 7 U.S.C. 2901-2911; The Cotton Research and Promotion Act, 7 U.S.C. 2101-2118; The Dairy Production Stabilization Act of 1983, 7 U.S.C. 4501-4514; The Fluid Milk Promotion Act of 1990, 7 U.S.C. 6401-6417; The Egg Research and Consumer Information Act, 7 U.S.C. 2701-2718; The Honey Research, Promotion, and Consumer Information Act, 7 U.S.C. 4601-4613; The Popcorn, Promotion, Research, and Consumer Information Act, 7 U.S.C. 7481-7491; The Pork Promotion, Research, and Consumer Information Act of 1985, 7 U.S.C. 4801-4819, The Soybean Promotion, Research, and Consumer Information Act, 7 U.S.C. 6301-6311; The Mushroom Promotion, Research, and Consumer Information Act of 1990, 7 U.S.C. 6101-6112; The Potato Research and Promotion Act, 7 U.S.C. 2611-2627; and The Watermelon Research and Promotion Act, 7 U.S.C. 4901-4916. The funding for these programs is industry-specific, but usually through assessments on producers, handlers, importers, or others in the marketing chain.

In 1996, AMS developed a survey to assess its work in six important service areas: meeting deadlines; providing clear and accurate information; maintaining open, constructive working relationships; providing up-to-date information on Government activities; supplying prompt, courteous service; and professionalism and helpfulness of staff.

This year, AMS has developed a similar survey, the Research and Promotion Customer Survey, to gather feedback from the commodity boards' members, alternates, staff, and others to determine how well AMS has been accomplishing its mission.

The information collected will be used and analyzed by AMS. The surveys will be distributed by mail or in person to the aforementioned representative groups. Respondents may return the surveys by mail or by fax to the address or fax number indicated on the survey form.

Several versions of the survey will be used, each with a different return address and contact information. This will enable the respondents to mail or fax surveys directly to the AMS program that oversees their boards.

Estimate of Burden: Public reporting burden for this collection of information is estimated to average .05 hours per response.

Respondents: Research and promotion board members and alternates, board staff employees, and contractors of the boards.

Estimated Number of Respondents: 400.

Estimated Number of Responses Per Respondent: 1.

Estimated Total Annual Burden on Respondents: 20 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Angela C. Snyder, 1400 Independence Avenue, SW., STOP 0256, Room 3932—South, Washington, DC 20250. All comments received will be available for public inspection during regular business hours at the same address.

All responses to this notice will be summarized and included in the request for OMB approval. All comments will become a matter of public record.

Dated: July 12, 2002.
A.J. Yates,
Administrator, Agricultural Marketing Service.

[FR Doc. 02-18153 Filed 7-17-02; 8:45 am]

BILLING CODE 3410-02-P